DEPARTMENT OF THE INTERIOR

Bureau of Land Management

[LLWY922000-L13200000-EL0000, WYW179009]

Notice of Invitation To Participate; Coal Exploration License Application WYW179009, Wyoming

AGENCY: Bureau of Land Management, Interior.

ACTION: Notice of Invitation to Participate in Coal Exploration License.

SUMMARY: Pursuant to the Mineral Leasing Act of 1920, as amended by the Federal Coal Leasing Amendments Act of 1976, and to Bureau of Land Management (BLM) regulations, all interested parties are hereby invited to participate with Bridger Coal Company on a pro rata cost sharing basis in its program for the exploration of coal deposits owned by the United States of America.

DATES: This notice of invitation will be published in the Rock Springs Daily Rocket-Miner once each week for 2 consecutive weeks beginning the week of May 17, 2010, and in the Federal Register. Any party electing to participate in this exploration program must send written notice to both the BLM and Bridger Coal Company, as provided in the ADDRESSES section below, no later than 30 days after publication of this invitation in the Federal Register.

ADDRESSES: Copies of the exploration plan are available for review during normal business hours in the following offices (serialized under number WYW179009): Bureau of Land Management, Wyoming State Office, 5353 Yellowstone Road, P.O. Box 1828, Cheyenne, WY 82003; and, Bureau of Land Management, Rock Springs Field Office, 280 Highway 191 North, Rock Springs, WY 82901. The written notice to participate should be sent to the following addresses: Bridger Coal Company, c/o Interwest Mining Company, Attn: Scott Child, 1407 West North Temple, Suite 310, Salt Lake City, UT 84116, and the Bureau of Land Management, Wyoming State Office, Branch of Solid Minerals, Attn: Mavis Love, P.O. Box 1828, Cheyenne, WY 82003.

FOR FURTHER INFORMATION CONTACT: Mavis Love, Land Law Examiner, at 307-775-6258.

SUPPLEMENTARY INFORMATION: The purpose of the exploration program is to obtain structural and quality information of the coal. The Federal coal resources included in the exploration license application are located in the following described lands:

T. 22 N., R. 101 W., 6th P.M., Wyoming

Sec. 34: W½.

Containing 320 acres, more or less, in Sweetwater County, WY.

The proposed exploration program is fully described and will be conducted pursuant to an exploration plan to be approved by the BLM.

Authority: 43 CFR 3410.2-1(c)(1).

Larry Claypool,
Deputy State Director, Minerals and Lands.

[FR Doc. 2010-11995 Filed 5-18-10; 8:45 am]

BILLING CODE 4310-22-P